DEPARTMENT OF COMMERCE

National Institute of Standards and Technology

Announcing a Meeting of the Information Security and Privacy Advisory Board

AGENCY: National Institute of Standards and Technology, Commerce.

ACTION: Notice.

SUMMARY: The Information Security and Privacy Advisory Board (ISPAB) will meet Wednesday, March 2, 2011, from 8:30 a.m. until 4:45 p.m., Thursday, March 3, 2011, from 8:30 a.m. until 5:30 p.m., and Friday, March 4, 2011 from 8:30 a.m. until 12:30 p.m. All sessions will be open to the public.

DATES: The meeting will be held on Wednesday, March 2, 2011, from 8:30 a.m. until 4:45 p.m., Thursday, March 3, 2011, from 8:30 a.m. until 5:30 p.m., and Friday, March 4, 2011 from 8:30 a.m. until 12:30 p.m.

ADDRESSES: The meeting will take place at the Homewood Suites by Washington, 1475 Massachusetts Avenue, NW., Washington, DC 20005 on March 2, 3, and 4, 2011.

FOR FURTHER INFORMATION CONTACT: Ms. Annie Sokol, Information Technology Laboratory, National Institute of Standards and Technology, 100 Bureau Drive, Stop 8930, Gaithersburg, MD 20899-8930, telephone: (301) 975-2006.

SUPPLEMENTARY INFORMATION: Pursuant to the Federal Advisory Committee Act, 5 U.S.C. App., notice is hereby given that the ISPAB will meet on Wednesday, March 2, 2011, from 8:30 a.m. until 4:45 p.m., Thursday, March 3, 2011, from 8:30 a.m. until 5:30 p.m., and Friday, March 4, 2011 from 8:30 a.m. until 12:30 p.m. All sessions will be open to the public. The ISPAB was established by the Computer Security Act of 1987 (Pub. L. 100-235) and amended by the Federal Information Security Management Act of 2002 (Pub. L. 107-347) to advise the Secretary of Commerce and the Director of NIST on security and privacy issues pertaining to Federal computer systems. Details regarding the ISPAB's activities are available at http://csrc.nist.gov/groups/SMA/ispab/index.html.

The agenda is expected to include the following items:

—Direct Hiring Panel discussion on Federal hiring process, especially for technical and security personnel,

—Presentation on National Strategy for Trusted Identities in Cyberspace (NSTIC) to discuss implementation plan,

—Presentation on Science of Security relating to computer security research,

—Presentation on Access of Classified Information,

—Medical Device Vendor Panel discussion of security, anti-virus and patching issues,

—CIO Panel discussion on Security of Federal Automated Information Resources (Appendix III to OMB Circular No. A-130),

—Update on the Federal Risk and Authorization Management Program (FedRAMP),

—DHS updates, including DOD-DHS personnel exchange MOU,

—Presentation on HSPD 12 (Policy for a Common Identification Standard for Federal Employees and Contractors) and progress of logical access,

—Panel discussion on lessons learned from National Cybersecurity and Communications, Integration Center and CyberStorm,

—A panel of Inspector Generals regarding privacy and security, and

—Update on NIST Computer Security Division.

Note that agenda items may change without notice because of possible unexpected schedule conflicts of presenters. The final agenda will be posted on the Web site indicated above.

Public Participation: The ISPAB agenda will include a period of time, not to exceed thirty minutes, for oral comments from the public (Friday, March 4, 2011, at 9:30 a.m.-10 a.m.). Each speaker will be limited to five minutes. Members of the public who are interested in speaking are asked to contact Ms. Annie Sokol at the telephone number indicated above. In addition, written statements are invited and may be submitted to the ISPAB at any time. Written statements should be directed to the ISPAB Secretariat, Information Technology Laboratory, 100 Bureau Drive, Stop 8930, National Institute of Standards and Technology, Gaithersburg, MD 20899-8930. Approximately 15 seats will be available for the public and media.

Dated: February 7, 2011.
Charles H. Romine,
Acting Associate Director for Laboratory Programs.

[FR Doc. 2011-3122 Filed 2-10-11; 8:45 am]

BILLING CODE 3510-13-P